COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add services to the Procurement List that will be provided by nonprofit agencies employing persons who are blind or have other severe disabilities and, deletes products and services previously furnished by such agencies.

Comments Must be Received on or Before: 3/31/2014.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to provide the services listed below from nonprofit agencies employing persons who are blind or have other severe disabilities.

The following services are proposed for addition to the Procurement List for production by the nonprofit agencies listed:

Services

Service Type/Location: Janitorial Service, Bureau of Indian Affairs, San Carlos Irrigation Project Facility, 13805 N. Arizona Boulevard, Coolidge, AZ.

NPA: Goodwill Community Services, Inc., Phoenix, AZ.

Contracting Activity: Dept. of the Interior, Bureau of Indian Affairs, Western Regional Office, Phoenix, AZ.

Service Type/Location: Janitorial Service, FAA SW Region, Houston TRACON, 4005 Greens Road, Houston, TX.

NPA: Crossroads Diversified Service, Inc., Sacramento, CA.

Contracting Activity: Dept. of Transportation, Federal Aviation Administration, Fort Worth, TX.

Service Type/Location: Furniture Design and Configuration Service, Maine National Guard, 194 Winthrop Street, Augusta, ME.

NPA: Industries for the Blind Inc., West Allis, WI.

Contracting Activity: USPFO Maine National Guard, Augusta, ME.

Deletions

The following products and services are proposed for deletion from the Procurement List:

Products

Bag, Plastic

NSN: 8105-LL-N89-0073

NSN: 8105-LL-N89-0075

NPA: Unknown.

Contracting Activity: Dept. of the Navy, U.S. Fleet Forces Command, Norfolk, VA.

Services

Service Type/Location: Janitorial/Custodial Service, Department of Veterans Affairs: Community Based Outpatient Clinic, 165 E. Apple Avenue, Muskegon, MI.

NPA: Goodwill Industries of West Michigan, Inc., Muskegon, MI.

Contracting Activity: Department of Veterans Affairs, 515-Battle Creek, Battle Creek, MI.

Service Type/Location: Janitorial/Custodial Service, U.S. Army Reserve Center, 9225 Peebles Road North Hills, Allison Park, PA.

NPA: Life's Work of Western PA, Pittsburgh, PA.

Contracting Activity: Dept. of the Army, W6QM MICC Ctr-Ft Dix (RC), Fort Dix, NJ.

Barry S. Lineback,
Director, Business Operations.

[FR Doc. 2014-04412 Filed 2-27-14; 8:45 am]

BILLING CODE 6353-01-P